DEPARTMENT OF COMMERCE

International Trade Administration

[A-351-849]

Emulsion Styrene-Butadiene Rubber From Brazil: Final Results of Antidumping Duty Administrative Review; 2018-2019

AGENCY: Enforcement and Compliance, International Trade Administration, Department of Commerce.

SUMMARY: The Department of Commerce (Commerce) finds that the sole producer and/or exporter subject to this administrative review made sales of certain emulsion styrene-butadiene rubber (ESB rubber) from Brazil at less than normal value during the period of review (POR), September 1, 2018, through August 31, 2019.

DATES: Applicable June 9, 2021.

FOR FURTHER INFORMATION CONTACT: Drew Jackson, AD/CVD Operations, Office IV, Enforcement and Compliance, International Trade Administration, U.S. Department of Commerce, 1401 Constitution Avenue NW, Washington, DC 20230; telephone: (202) 482-4406.

SUPPLEMENTARY INFORMATION:

Background

On January 26, 2021, Commerce published the Preliminary Results.¹ We invited interested parties to comment on the Preliminary Results.² This review covers one mandatory respondent, ARLANXEO Brasil S.A. (ARLANXEO Brasil). On February 25, 2021, Lion Elastomers, LLC (the petitioner), and ARLANXEO Brasil filed case briefs,³ and on March 4, 2021, the petitioner filed a rebuttal brief.⁴ Commerce conducted this review in accordance with section 751(a)(1)(B) of the Tariff Act of 1930, as amended (the Act).

¹ See Emulsion Styrene-Butadiene Rubber from Brazil: Preliminary Results of Antidumping Duty Administrative Review; 2018-2019, 86 FR 7066 (January 26, 2021) (Preliminary Results), and accompanying Preliminary Decision Memorandum.

² Id.

³ See Petitioner's Letter, “Emulsion Styrene-Butadiene Rubber (E-SBR) from Brazil, Administrative Review 2018-2019: Case Brief and Request to Participate in Hearing,” dated February 25, 2021; see also ARLANXEO Brasil's Letter, “Emulsion Styrene-Butadiene Rubber from Brazil: ARLANXEO's Case Brief,” dated February 25, 2021.

⁴ See Petitioner's Letter, “Emulsion Styrene-Butadiene Rubber (E-SBR) from Brazil, Administrative Review 2018-2019: Rebuttal Brief,” dated March 4, 2021.

Scope of the Order

The merchandise covered by the order is certain ESB rubber from Brazil. The merchandise subject to this order is currently classifiable under subheadings 4002.19.0015 and 4002.19.0019 of the Harmonized Tariff Schedule of the United States (HTSUS). ESB rubber is described by Chemical Abstract Services (CAS) Registry No. 9003-55-8. This CAS number also refers to other types of styrene butadiene rubber. Although the HTSUS subheadings and CAS registry number are provided for convenience and customs purposes, the written description of the scope of this order is dispositive. For a full description of the scope of the order, see the Issues and Decision Memorandum.⁵

⁵ See Memorandum, “Issues and Decision Memorandum for the Final Results of the 2018-2019 Administrative Review of the Antidumping Order on Emulsion Styrene-Butadiene Rubber from Brazil,” dated concurrently with, and hereby adopted by, this notice (Issues and Decision Memorandum).

Analysis of Comments Received

All issues raised by parties in the case and rebuttal briefs are addressed in the Issues and Decision Memorandum. A list of the issues addressed in the Issues and Decision Memorandum is in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn/.

Changes Since the Preliminary Results

We have made no changes to the weighted-average dumping margin for ARLANXEO Brasil. For detailed information, see the Issues and Decision Memorandum.

Final Results of the Review

As a result of this review, Commerce determines that the following weighted-average dumping margin exists for the period September 1, 2018, through August 31, 2019:

Exporter/producer | Weighted-average margin (percent)
ARLANXEO Brasil S.A | 34.93

Disclosure of Calculations

Normally, Commerce discloses to interested parties the calculations performed in connection with the final results of an administrative review within five days of any public announcement or, if there is no public announcement, within five days of the date of publication of the notice of final results in the Federal Register, in accordance with 19 CFR 351.224(b). However, as noted above, Commerce has made no changes to its margin calculations since the Preliminary Results. Commerce disclosed its preliminary margin calculations to interested parties, and there are no additional calculations to disclose.⁶

⁶ See Memorandum, “Antidumping Duty Administrative Review of Emulsion Styrene-Butadiene Rubber from Brazil: Final Results Analysis Memorandum for ARLANXEO Brasil S.A,” dated concurrently with this notice (citing Memorandum, “Antidumping Duty Administrative Review of Emulsion Styrene Butadiene Rubber from Brazil: Preliminary Results Analysis Memorandum for ARLANXEO Brasil S.A,” dated January 15, 2021).

Assessment Rates

Commerce has determined, and U.S. Customs and Border Protection (CBP) shall assess, antidumping duties on all appropriate entries in accordance with section 751(a)(2)(C) of the Act and 19 CFR 351.212(b).

Pursuant to 19 CFR 351.212(b)(1), where the respondent reported the entered value of their U.S. sales, we calculated importer-specific ad valorem duty assessment rates based on the ratio of the total amount of dumping calculated for the examined sales to the total entered value of the sales for which entered value was reported. Where the respondent did not report entered value, we calculated the entered value in order to calculate the assessment rate. Where an importer-specific assessment rate is de minimis (i.e., less than 0.5 percent), the entries by that importer will be liquidated without reference to antidumping duties.

The final results of this review shall be the basis for the assessment of antidumping duties on entries of merchandise covered by the final results of this review and for future deposits of estimated duties, where applicable.⁷

⁷ See section 751(a)(2)(C) of the Act.

For entries of subject merchandise during the POR produced by ARLANXEO Brasil for which it did not know the merchandise was destined for the United States, we will instruct CBP to liquidate unreviewed entries at the all-others rate if there is no rate for the intermediate company(ies) involved in the transaction.⁸

⁸ See Antidumping and Countervailing Duty Proceedings: Assessment of Antidumping Duties, 68 FR 23954 (May 6, 2003).

Consistent with its recent notice,⁹ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

⁹ See Notice of Discontinuation of Policy to Issue Liquidation Instructions After 15 Days in Applicable Antidumping and Countervailing Duty Administrative Proceedings, 86 FR 3995 (January 15, 2021).

Cash Deposit Requirements

The following cash deposit requirements will be effective for all shipments of the subject merchandise entered, or withdrawn from warehouse, for consumption on or after the publication date of the final results of this administrative review, as provided by section 751(a)(2) of the Act: (1) The cash deposit rate for ARLANXEO Brasil S.A. will be equal to the weighted-average dumping margin established in the final results of this review; (2) for merchandise exported by producers or exporters not covered in this review but covered in a prior segment of this proceeding, the cash deposit will continue to be the company-specific rate published for the most recently completed segment of this proceeding in which the company participated; (3) if the exporter is not a firm covered in this review or the original less-than-fair-value (LTFV) investigation, but the producer is, then the cash deposit rate will be the rate established for the most recently completed segment for the producer of the subject merchandise; and (4) the cash deposit rate for all other producers or exporters will continue to be 19.61 percent, the all-others rate established in the LTFV investigation.¹⁰ These cash deposit requirements, when imposed, shall remain in effect until further notice.

¹⁰ See Emulsion Styrene-Butadiene Rubber from Brazil: Final Affirmative Determination of Sales at Less Than Fair Value and Final Negative Determination of Critical Circumstances, 82 FR 33048 (July 19, 2019).

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification Regarding Administrative Protective Orders

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation subject to sanction.

Notice to Interested Parties

We are issuing and publishing these results of administrative review in accordance with sections 751(a) and 777(i) of the Act and 19 CFR 351.221(b)(5).

Dated: June 3, 2021.
Christian Marsh,
Acting Assistant Secretary for Enforcement and Compliance.

Appendix

List of Topics Discussed in the Final Issues and Decision Memorandum

I. Summary

II. Background

III. Scope of the Order

IV. Changes Since the Preliminary Results

V. Discussion of the Issues

Comment 1: Cost Methodology

Comment 2: Level of Trade, Constructed Export Price Offset

VI. Recommendation

[FR Doc. 2021-12078 Filed 6-8-21; 8:45 am]

BILLING CODE 3510-DS-P